FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than January 26, 2022.

A. Federal Reserve Bank of Chicago (Colette A. Fried, Assistant Vice President) 230 South LaSalle Street, Chicago, Illinois 60690-1414:

1. The First Amended and Restated Mark R. Peterson Bank Trust, the First Amended and Restated Susan P. Depass Bank Trust, the First Amended and Restated Chase R. Peterson Bank Trust, the First Amended and Restated Clair P. Peterson Bank Trust, the First Amended and Restated Cole M. Peterson Bank Trust, and the First Amended and Restated Aja M. Depass Bank Trust, Mark R. Peterson, as trustee, the Polly P. Peterson Trust, and the Polly P. Peterson IRA, Polly P. Peterson, as trustee and owner, respectively, all of Dakota Dunes, South Dakota; to join the Peterson Family Control Group, a group acting concert, to retain voting shares of Liberty Financial Services, Inc., and thereby indirectly retain voting shares of Liberty National Bank, both of Sioux City, Iowa.

Board of Governors of the Federal Reserve System, January 6, 2022.
Michele Taylor Fennell,
Deputy Associate Secretary of the Board.

[FR Doc. 2022-00446 Filed 1-11-22; 8:45 am]

BILLING CODE P